DEPARTMENT OF HOMELAND SECURITY

Coast Guard

[Docket No. USCG-2018-0435]

Certificate of Alternative Compliance for the Ferry RODANTHE

AGENCY: Coast Guard, DHS.

ACTION: Notification of issuance of a certificate of alternative compliance.

SUMMARY: The Coast Guard announces that the Fifth District, Chief of Prevention Division has issued a certificate of alternative compliance from the International Regulations for Preventing Collisions at Sea, 1972 (72 COLREGS), for the North Carolina's Department of Transportation ferry RODANTHE, Official Number (O.N.) 1285078, Bollinger Hull Number: 693. We are issuing this notice because its publication is required by statute. Due to the construction and placement of the pilothouse offset to the starboard side of the vessel, the ferry RODANTHE cannot fully comply with the light, shape, or sound signal provisions of the 72 COLREGS without interfering with the vessel's design and construction. This notification of issuance of a certificate of alternative compliance promotes the Coast Guard's marine safety mission.

DATES: The Certificate of Alternative Compliance was issued on June 1, 2018.

FOR FURTHER INFORMATION CONTACT: For information or questions about this notice call or email LCDR Ronaydee M. Marquez, District Five, Chief, Inspections and Investigations, U.S. Coast Guard; telephone: 757-398-6682, email: Ronaydee.M.Marquez@uscg.mil.

SUPPLEMENTARY INFORMATION: The United States is signatory to the International Maritime Organization's International Regulations for Preventing Collisions at Sea, 1972 (72 COLREGS), as amended. The special construction or purpose of some vessels makes them unable to comply with the light, shape, or sound signal provisions of the 72 COLREGS. Under statutory law, however, specified 72 COLREGS provisions are not applicable to a vessel of special construction or purpose if the Coast Guard determines that the vessel cannot comply fully with those requirements without interfering with the special function of the vessel.¹

¹ 33 U.S.C. 1605.

The owner, builder, operator, or agent of a special construction or purpose vessel may apply to the Coast Guard District Office in which the vessel is being built or operated for a determination that compliance with alternative requirements is justified,² and the Chief of the Prevention Division would then issue the applicant a certificate of alternative compliance (COAC) if he or she determines that the vessel cannot comply fully with 72 COLREGS light, shape, and sound signal provisions without interference with the vessel's special function.³ If the Coast Guard issues a COAC, it must publish notice of this action in the Federal Register.⁴

² 33 CFR 81.5.

³ 33 CFR 81.9.

⁴ 33 U.S.C. 1605(c) and 33 CFR 81.18.

The Fifth District, Chief of Prevention Division, U.S. Coast Guard, certifies that the RODANTHE, O.N. 1285078 is a vessel of special construction or purpose, and that, with respect to the position of the masthead light and sidelights, it is not possible to comply fully with the requirements of the provisions enumerated in the 72 COLREGS, without interfering with the normal operation, construction, or design of the vessel. The design and configuration of the pilothouse offset to the starboard side of the vessel allows an open deck to carry large vehicles. There are no structures on the fore and aft centerline or left of the centerline on which a masthead light or sidelights could be affixed. Instead, the masthead light is located on the top center of the pilothouse and the port sidelight is located on the port side of the pilothouse, which is offset to the starboard side of the vessel. The Fifth District, Chief of Prevention Division further finds and certifies that the masthead light and sidelights are in the closet possible compliance with the applicable provisions of the 72 COLREGS.⁵

⁵ 33 U.S.C. 1605(a); 33 CFR 81.9.

This notice is issued under authority of 33 U.S.C. 1605(c) and 33 CFR 81.18.

Dated: June 1, 2018.
J.R. Barnes,
Capt., U.S. Coast Guard, Chief, Prevention Division, Fifth Coast Guard District.

[FR Doc. 2018-12337 Filed 6-7-18; 8:45 am]

BILLING CODE 9110-04-P